DEPARTMENT OF THE INTERIOR

Bureau of Land Management

[NM-520-1430-EU; NMNM 113300]

Notice of Realty Action; Competitive Sale of Public Land; New Mexico

AGENCY: Bureau of Land Management, Interior.

ACTION: Notice of realty action.

SUMMARY: The following described public land in Eddy County, New Mexico has been examined and found suitable for disposal pursuant to Section 203 of the Federal Land Policy and Management Act of 1976 (FLPMA) (90 Stat. 2750, 43 U.S.C. 1713). The Bureau of Land Management (BLM) proposes to sell the land competitively at not less than the appraised fair market value (FMV).

New Mexico Principal Meridian

T. 17 S., R. 30 E.,

Sec. 19, lots 4 and 8, and W1/2E1/2SW1/4;

Sec. 30, lots 6, 7, and 8.

The area described contains 152.30 acres, more or less, in Eddy County.

DATES: For a period of 45 days from publication of this notice in the Federal Register, interested parties may submit comments to the Field Manager, BLM, Carlsbad Field Office, 620 East Greene, Carlsbad, New Mexico 88220. The sale by public auction will begin at 10 a.m., MST on March 19, 2007.

Sealed bids must be received by BLM no later than 4:30 p.m., MST March 16, 2007. Sale Bid Forms will be provided to all prospective bidders prior to the sale. The forms are available at the BLM, Carlsbad Field Office, 620 East Greene, Carlsbad, New Mexico 88220 or by calling (505) 234-5972. The forms should be included in a sealed envelope and the envelope must be marked on the lower left corner with the sale date and the BLM serial number “NMNM-113300”.

All oral bidders are required to register. Registration will be held at the BLM, Carlsbad Field Office, 620 East Greene, Carlsbad, New Mexico 88220 beginning at 8 a.m. MST on the day of the sale and will end at 10 a.m., MST.

ADDRESSES: Written comments should be addressed to Tony Herrell, Field Manager, BLM, Carlsbad Field Office, 620 East Greene, Carlsbad, New Mexico 88220.

The Sale Bid and Certification of Qualification forms will be available prior to the sale date at the BLM, Carlsbad Field Office (CFO) or by calling (505) 234-5972.

More detailed information regarding the proposed sale and the lands involved may be reviewed during normal business hours (7:45 a.m., to 4:30 p.m., Monday through Friday) at the BLM, CFO. Interested parties may submit comments to the Field Manager, CFO.

The competitive sale will be held at the BLM, CFO.

SUPPLEMENTARY INFORMATION: The land sale is in conformance with the BLM Carlsbad Resource Management Plan and Amendment dated 1997, and the public interest will be served by offering this land for sale. The land is hereby classified for disposal in accordance with Executive Order No. 6910, and with Section 7 of the Taylor Grazing Act, 43 U.S.C. 315F. The proposed land will be put up for sale by competitive auction on March 19, 2007. The auction will be held in accordance with the applicable provisions of Section 203 of the FLPMA (43 U.S.C. 1713), and its implementing regulations, 43 CFR part 2710 and 2711, at not less than the FMV for the parcel. The appraised market value of the subject property is $20,850.00 (twenty thousand eight hundred fifty dollars and no cents).

The purpose of this sale is to dispose a tract of land that will serve important public objectives, including but not limited to, expansion of communities and economic development, which cannot be achieved prudently or feasibly on land other than public land. The sale of this land outweighs other public objectives and values, including, but not limited to, recreation and scenic values, which would be served by maintaining such tract in Federal ownership. No significant resource values will be affected by this transfer.

The locatable, salable, and leasable mineral rights will be reserved by the United States and not conveyed with the surface estate. The disposal would not generate any adverse energy impacts or limit energy production and distribution.

In accordance with 43 CFR 4120.3-6, the grazing permittee has waived his rights to continue grazing the subject lands for a 2-year period and to compensation for his investments in authorized range improvements. Therefore, the patent will not be issued subject to a grazing permit or any authorized range improvements.

Upon publication of this notice in the Federal Register, the above described land will be segregated from all other forms of appropriation under the public land laws, including the general mining laws and leasing under the mineral leasing laws. Upon publication of this notice and until completion of the sale, the BLM will no longer accept land use applications affecting the parcel identified for sale. The segregative effect of this notice shall terminate upon issuance of patent, upon publication in the Federal Register of a termination of the segregation or 2 years from the date of publication, whichever occurs first.

Sale Procedures: Federal law requires all bidders must be (a) United States citizens and 18 years of age or older; (b) a corporation subject to the laws of any State or of the United States; (c) a State, State instrumentality, or political subdivision authorized to hold property; or (d) an entity legally capable of conveying and holding lands or interests therein under the laws of the State of New Mexico. Certification of qualifications, including citizenship, corporation or partnership, must accompany the bid deposit. Bids must be made by the principal or his duly qualified agent. Certifications of Qualification forms are available at the BLM, Carlsbad Field Office at the above address or by calling (505) 234-5972.

Sealed bids shall be considered only if received at the BLM, Carlsbad Field Office, 620 East Greene, Carlsbad, New Mexico 88220 by no later than 4:30 p.m., MST on March 16, 2007. Each sealed bid shall be enclosed in a sealed envelope, and include a completed sealed bid form, accompanied by a certified check, postal money order, bank draft, or cashier's check made payable to the Department of the Interior, Bureau of Land Management for not less than 10 percent or more than 30 percent of the bid amount. Sealed bids of less than the appraised FMV will be rejected. The highest qualified sealed bid received shall be publicly declared and will become the starting point for the oral auction. In the event that two or more sealed bids are received containing valid bids of the same amount, the determination of which is to be considered the highest designated bid will be by supplemental oral bidding. In the event that neither originator of a submitted valid bid of the same amount is present on the day of the sale a coin will be tossed to determine which of the two identical bids will be considered the highest designated bid to use as the starting point for supplemental oral bidding. If no sealed bids are received, oral bidding will begin at the appraised FMV. Oral bid increments will be a minimum of $500.

The highest qualifying bid for the parcel, whether sealed or oral, will be declared the high bid. The high bidder, if an oral bidder, must submit the full deposit amount by 4:30 p.m. MST on the day of the sale in the form of cash, personal check, bank draft, cashiers check, money order or any combination thereof, made payable to the Department of the Interior, Bureau of Land Management, for not less than 20 percent of the amount of the successful bid. Should the high bidder default, the next high qualified bidder for the parcel will be declared the high bidder.

The successful bidder, whether sealed or oral, shall submit the remainder of the full bid price prior to the expiration of 180 days from the date of the sale in the form of cash, personal check, bank draft, cashier's check, money order or any combination thereof, made payable to the Department of the Interior, Bureau of Land Management.

Failure to submit the full bid price prior to, but not including the 180th day following the day of the sale, shall result in cancellation of the sale and the deposit shall be forfeited.

Additional Information: The BLM may accept or reject any or all offers, or withdraw any parcel of land or interest therein from sale, if, in the opinion of the authorized officer, consummation of the sale would not be fully consistent with FLPMA or other applicable laws. If not sold, the parcel may be identified for sale at a later date without further legal notice.

In order to establish the FMV for the subject public land through appraisal, certain assumptions have been made of the attitudes and limitations of the land and potential effects of local regulations and policies on potential future land uses.

Through publication of this notice, the BLM gives notice that these assumptions may not be endorsed or approved by units of local government. It is the buyer's responsibility to be aware of all applicable local government policies, laws, and regulations that would affect the subject lands, including any required dedication of lands for public uses.

No warranty of any kind shall be given or implied by the United States as to the potential uses of the lands offered for sale. Furthermore, conveyance of the subject lands will not be on a contingency basis. It is the buyer's responsibility to be aware of all applicable local government policies and regulations that would affect the subject lands. It is also the buyer's responsibility to be aware of existing or projected use of neighboring and nearby properties. When conveyed out of Federal ownership, the lands will be subject to any applicable reviews and approvals by the respective unit of local government for proposed future uses, and any such reviews and approvals would be the responsibility of the buyer.

Patent Terms And Conditions:

Excepting and Reserving to the United States:

a. A right-of-way thereon for ditches and canals constructed by the authority of the United States pursuant to the Act of August 30, 1890 (26 Stat. 391; 43 U.S.C. 945).

b. A right-of-way, NMLC-53190, issued to New Mexico State Highway Department for State Highway 82, pursuant to Sections 16 and 17 of the “Federal Highway Act” (42 Stat. 212).

c. All minerals.

Subject to: Valid existing rights including, but not limited to, rights-of-way for roads, public utilities and flood control improvements. Encumbrances of record, appearing in the BLM public files for the parcel proposed for sale are available for review during business hours, 7:45 a.m. to 4:30 p.m. MST, Monday through Friday, at the BLM, CFO.

Public Comments: Interested parties may submit written comments regarding the proposed sale to the Field Manager, BLM, CFO, up to 45 days after publication of this Notice in the Federal Register. Any adverse comments will be reviewed by the Pecos District Manager, who may sustain, vacate, or modify this realty action in whole or in part. In the absence of any adverse comments, this realty action will become the final determination of the Department of Interior. Any comments received during this process, as well as the commentor name and address, will be available to the public in the administrative record and/or pursuant to a Freedom of Information Act request. You may indicate for the record that you do not wish to have your name and/or address made available to the public. Any determination by the BLM to release or withhold the names and/or addresses of those who comment will be made on a case-by-case basis. A request from a commentor to have their name and/or address withheld from public release will be honored to the extent permissible by laws.

Detailed information concerning the sale, including the restrictions, reservations, sale procedures and conditions, planning and environmental documents is available for review at the BLM, CFO, or by calling (505) 234-5972.

Authority: 43 CFR 2711.1-2 (a) and (c).

Dated: November 30, 2006.
Jim Stovall,
Acting Carlsbad Field Manager.

[FR Doc. E7-371 Filed 1-12-07; 8:45 am]

BILLING CODE 4310-OX-P